DEPARTMENT OF THE INTERIOR

National Park Service

[NPS-WASO-NRNHL-DTS#-33690; PPWOCRADI0, PCU00RP14.R50000]

National Register of Historic Places; Notification of Pending Nominations and Related Actions

AGENCY: National Park Service, Interior.

ACTION: Notice.

SUMMARY: The National Park Service is soliciting electronic comments on the significance of properties nominated before April 2, 2022, for listing or related actions in the National Register of Historic Places.

DATES: Comments should be submitted electronically by April 28, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before April 2, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

GEORGIA

Laurens County

Emery Thomas Auditorium, 100 Riverview Dr., Dublin, SG100007698

MICHIGAN

Kalamazoo County

Parkwyn Village, Winchell and Lorraine Aves.; Parkwyn and Taliesin Drs., Kalamazoo, SG100007690

NEW MEXICO

Bernalillo County

Broadmoor Addition, Roughly bounded by Brockmont and Copper Aves, Morningside Dr., and Washington St., Albuquerque, SG100007699

Granada Heights

Roughly bounded by Silver and Garfield Aves., Carlisle Blvd., and Morningside Dr., Albuquerque, SG100007700

NEW YORK

Albany County

Downtown Albany Historic District (Boundary Increase/Decrease), 145-150 State, 36-42 Eagle, and 93 North Pearl Sts., Albany, BC100007692

WASHINGTON

King County

Arreguin, Alfredo & Susan Lytle, House and Studio, 2412 NE 80th St., Seattle, SG100007697

WISCONSIN

La Crosse County

Trimbell, Derwood and Myrtle, House, 224 Van Ness St. North, West Salem, SG100007696

Additional documentation has been received for the following resource:

NEW YORK

Albany County

Downtown Albany Historic District (Additional Documentation), 145-150 State, 36-42 Eagle, and 93 North Pearl Sts., Albany, AD80002579

Nominations submitted by Federal Preservation Officer:

The State Historic Preservation Officer reviewed the following nomination(s) and responded to the Federal Preservation Officer within 45 days of receipt of the nomination(s) and supports listing the properties in the National Register of Historic Places.

VIRGINIA

Hampton Independent City

Chesterville Site (Boundary Decrease), Address Restricted, Hampton vicinity, BC100007695

Chesterville Site (Additional Documentation), Address Restricted, Hampton vicinity, AD73002211

Authority: Section 60.13 of 36 CFR part 60.

Dated: April 5, 2022.
Sherry A. Frear,
Chief, National Register of Historic Places/National Historic Landmarks Program.

[FR Doc. 2022-07925 Filed 4-12-22; 8:45 am]

BILLING CODE 4312-52-P